DEPARTMENT OF JUSTICE

Notice of Lodging of Consent Decree Under the Comprehensive Environmental Response, Compensation, and Liability Act

Notice is hereby given that on August 19, 2005, a proposed consent decree was lodged in United States v. Reichhold Limited, et al., No. 5:03-CV-0077-3(CAR) (M.D. Ga.). The consent decree settles the United States' claims against the Estate of Thomas W. Cleveland and Jacqueline Woolfork Mathes as well as “Woolfolk Settlement Agreement Parties” [Woolfolk Chemical Works, Ltd; The J.W. Woolfolk Trust; John W. Moye, Thomas W. Cleveland, Jr., James Teabo, and Rachel Mathes, individually, and in their capacity as former or current Co-Trustees of the J.W. Woolfolk Trust; The Elizabeth Woolfolk Moye Trust; John W. Moye, as Trustee of the Elizabeth Woolfolk Moye Trust; The Anita Woolfolk Cleveland Trust; Thomas W. Cleveland, Jr. and James Teabo, as former or current Trustees of The Anita Woolfolk Cleveland Trust; The Jacqueline Woolfolk Mathes Trust; and Rachel Mathes, as Trustee of The Jacqueline Woolfolk Mathes Trust] and the “Woolfolk Parties” [John H. Thurman; Elizabeth Cleveland Martin; Margie Cleveland Hoots; Anita Beauregard Cleveland; Blake Hansford Cleveland; Letitia M. Unver; Julia M. Poppell; Ann Cleveland Hoots; Deborah Cleveland; John C. Alden; Emma D. Alden; Thomas Alden; David Victor Hewes, Betty L. Hewes; Hope Hewes Robinson; Pamela Hewes Jones; James C. Liipfert, Jr.; Lucile B. Dudley; Richard B. Liipfert; Jeptha B. Liipfert; Susan A. Thurman; Mary Anne Thurman; Martha Kay Thurman; Thomas David Thurman; and Josephine Kujawinski] under Section 107 the Comprehensive Environmental Response, Compensation, and Liability Act, 42 U.S.C. 9607, in connection with the Woolfolk Chemical Superfund Site in Fort Valley, Georgia (the “Site”).

Under the proposed consent decree the United States will participate in recovery against Continental Insurance Company (“Continental”) from a lawsuit against Continental to obtain insurance coverage brought by the Woolfolk Settlement Agreement Parties relating to the site.

The Department of Justice will receive for a period of thirty (30) days from the date of this publication comments relating to the consent decree. Comments should be addressed to the Assistant Attorney General, Environment and Natural Resources Division, P.O. Box 7611, U.S. Department of Justice, Washington, DC 20044-7611, and should refer to United States v. Reichhold Limited, et al., No. 5:03-CV-0077-3(CAR) (M.D. Ga.) and DOJ #90-11-3-07282.

The consent decree may be examined at the Office of the United States Attorney for the Middle District of Georgia, 433 Cherry St., Macon, Georgia 31202. During the public comment period, the consent decree may also be examined on the following Department of Justice Web site: http://www.usdoj.gov/enrd/open.html. A copy of the consent decree may also be obtained by mail from the Consent Decree Library, P.O. Box 7611, U.S. Department of Justice, Washington, DC. 20044-7611, or by faxing or e-mailing a request to Tonia Fleetwood, tonia.fleetwood@usdoj.gov, Fax No. (202) 514-0097, phone confirmation number (202) 514-1547. In requesting a copy from the Consent Decree Library, please enclose a check in the amount of $8.75 (25 cents per page reproduction cost) payable to the U.S. Treasury.

Ellen M. Mahan,
Assistant Chief, Environmental Enforcement Section, Environment and Natural Resources Division.

[FR Doc. 05-17850 Filed 9-8-05; 8:45 am]

BILLING CODE 4410-15-M